DEPARTMENT OF COMMERCE

International Trade Administration

[A-570-970]

Multilayered Wood Flooring From the People's Republic of China: Preliminary Results of the Antidumping Duty Administrative Review, Preliminary Determination of No Shipments, Preliminary Successor-in-Interest Determination, and Rescission of Review, in Part; 2018-2019

AGENCY: Enforcement and Compliance, International Trade Administration, Department of Commerce.

SUMMARY: The Department of Commerce (Commerce) preliminarily determines that the sole cooperative mandatory respondent in this administrative review did not make sales of subject merchandise at less than normal value (NV), that certain companies had no shipments of subject merchandise during the period of review (POR) December 1, 2018, through November 30, 2019, and that Arte Mundi (Shanghai) Aesthetic Home Furnishings Co., Ltd. (Arte Mundi) is the sucessor-in-interest to Scholar Home (Shanghai) New Material Co., Ltd. (Scholar Home). Finally, we are rescinding the review with respect to certain companies. We invite interested parties to comment on these preliminary results.

DATES: Applicable April 26, 2021.

FOR FURTHER INFORMATION CONTACT: Sergio Balbontin or Alexis Cherry, AD/CVD Operations, Office VIII, Enforcement and Compliance, International Trade Administration, U.S. Department of Commerce, 1401 Constitution Avenue NW, Washington, DC 20230; telephone: (202) 482-6478 or (202) 482-0607, respectively.

SUPPLEMENTARY INFORMATION:

Background

Commerce is conducting an administrative review of the antidumping duty order on multilayered wood flooring (MLWF) from the People's Republic of China (China).¹ The POR is December 1, 2018, through November 30, 2019. The review covers 95 companies, including mandatory respondents, Jinlong ² and Jiangsu Senmao Bamboo and Wood Industry Co., Ltd. (Senmao). We preliminarily determine that sales of subject merchandise by Senmao have not been made at prices below NV and that Jinlong is not eligible for a separate rate. In addition, we are preliminarily granting separate rates to Senmao and 34 producers/exporters, and determine that 20 producers/exporters made no shipments of subject merchandise during the POR. Finally, we are rescinding the review with respect to four producers/exporters.

¹ See Initiation of Antidumping and Countervailing Duty Administrative Reviews, 85 FR 6896 (February 6, 2020) (Initiation Notice).

² Jinlong consists of the following companies: Dalian Qianqiu Wooden Product Co., Ltd.; Fusong Jinlong Wooden Group Co., Ltd.; Fusong Jinqiu Wooden Product Co., Ltd.; and Fusong Qianqiu Wooden Product Co., Ltd. See Multilayered Wood Flooring from the People's Republic of China: Final Results of Antidumping Duty Administrative Review and New Shipper Review and Final Determination of No Shipments; 2017-2018, 85 FR 78118 (December 3, 2020).

For events that occurred since the Initiation Notice and analysis behind our preliminary results herein, see the Preliminary Decision Memorandum.³ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/index.html. A list of topics discussed in the Preliminary Decision Memorandum is included as Appendix I to this notice.

³ See Memorandum, “Decision Memorandum for the Preliminary Results in the Antidumping Duty Administrative Review: Multilayered Wood Flooring from the People's Republic of China; 2018-2019,” dated concurrently with, and hereby adopted by, this notice (Preliminary Decision Memorandum).

Scope of the Order ⁴

⁴ See Multilayered Wood Flooring from the People's Republic of China: Notice of Amended Final Affirmative Determination of Sales at Less than Fair Value and Antidumping Duty Order, 76 FR 76690 (December 8, 2011), as amended in Multilayered Wood Flooring from the People's Republic of China, 77 FR 5484 (February 3, 2012) (collectively, Order).

The product covered by the Order is MLWF from China. For a complete description of the scope of this administrative review, see the Preliminary Decision Memorandum.

Partial Rescission of Review

Commerce initiated a review of 95 companies in this review.⁵ On May 6, 2020, AHF, LLC (AHF) timely withdrew its request for review with respect to 90 companies.⁶ Of these companies, no other parties requested a review of Dalian Deerfu Wooden Product Co., Ltd. (Deerfu); Dunhua City Wanrong Wood Industry Co., Ltd. (Wanrong); Jilin Forest Industry Jinqiao Flooring Group Co., Ltd. (Jilin Forest); and Lauzon Distinctive Hardwood Flooring, Inc. (Lauzon). However, other parties, including the American Manufacturers of Multilayered Wood Flooring (the petitioner), requested a review with respect to the remaining companies named in AHF's review request.⁷ Accordingly, Commerce is rescinding the administrative review only with respect to Deerfu, Wanrong, Jilin Forest, and Lauzon.⁸

⁵ See Initiation Notice.

⁶ See AHF's Letter, “Multilayered Wood Flooring from the People's Republic of China: Withdrawal of Request for Review—2018-19 AD Review Period,” dated May 6, 2020.

⁷ See, e.g., Petitioner's Letter, “Multilayered Wood Flooring from the People's Republic of China: Request for Administrative Review”; and CDC Distributors, Inc.'s Letter, “Multilayered Wood Flooring from the People's Republic of China: Request for Administrative Reviews,” both dated December 31, 2019.

⁸ See 19 CFR 351.213(d)(1).

Preliminary Determination of No Shipments

Based on an analysis of information from U.S. Customs and Border Protection (CBP), no shipment certifications, and other record information, we preliminarily determine that 20 companies had no shipments of subject merchandise during the POR.⁹ Consistent with our practice in non-market economy (NME) cases, we are not rescinding this review with respect to these companies but, rather, intend to complete the review and issue appropriate instructions to CBP based on the final results of the review.¹⁰

⁹ See Appendix II for a list of these companies.

¹⁰ See Non-Market Economy Antidumping Proceedings: Assessment of Antidumping Duties, 76 FR 65694, 65694-95 (October 24, 2011) (NME AD Assessment); see also the “Assessment Rates” section, below.

Separate Rates

We preliminarily determine that, in addition to Senmao, 34 companies not individually-examined are eligible for separate rates in this administrative review.¹¹ The Tariff Act of 1930, as amended (the Act) and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. For the preliminary results of this review, Commerce has determined the estimated dumping margin for Senmao to be zero.¹² For the reasons explained in the Preliminary Decision Memorandum, we are assigning this rate to the non-examined respondents which qualify for a separate rate in this review.

¹¹ See Preliminary Decision Memorandum at the “Separate Rate Determinations” section for more details.

¹² See Memorandum, “Preliminary Results Margin Calculation for Jiangsu Senmao Bamboo and Wood Industry Co., Ltd.,” dated concurrently with this notice.

The China-Wide Entity

Commerce's policy regarding conditional review of the China-wide entity applies to this administrative review.¹³ Under this policy, the China-wide entity will not be under review unless a party specifically requests, or Commerce self-initiates, a review of the entity. Because no party requested a review of the China-wide entity, the entity is not under review, and the entity's rate is not subject to change.

¹³ See Antidumping Proceedings: Announcement of Change in Department Practice for Respondent Selection in Antidumping Duty Proceedings and Conditional Review of the Nonmarket Economy Entity in NME Antidumping Duty Proceedings, 78 FR 65963 (November 4, 2013).

Commerce selected Jinlong as one of two mandatory respondents in this administrative review.¹⁴ Jinlong then notified Commerce that it did not intend to participate in the review.¹⁵ Because Jinlong did not respond to the questionnaire, it has not established its eligibility for a separate rate, and is considered to be part of the China-wide entity. See the Preliminary Decision Memorandum for further discussion.

¹⁴ See Memorandum, “Antidumping Administrative Review of Multilayered Wood Flooring from the People's Republic of China: Respondent Selection,” dated March 19, 2020.

¹⁵ See Jinlong's Letter, “Multilayered Wood Flooring from China: Jinlong Notice of Intent Not to Participate,” dated April 14, 2020.

Aside from the companies for which we preliminarily find no shipments and those companies for which the review is being rescinded, Commerce considers all other companies for which a review was requested and did not demonstrate separate rate eligibility to be part of the China-wide entity.¹⁶ For the preliminary results of this review, we consider 36 companies, including Jinlong, to be part of the China-wide entity.

¹⁶ See Initiation Notice (“All firms listed below that wish to qualify for separate rate status in the administrative reviews involving NME countries must complete, as appropriate, either a separate rate application or certification, as described below.”) Companies that are subject to this administrative review that are considered to be part of the China-wide entity are listed in Appendix II.

Preliminary Results of Successor-in-Interest Analysis

Separate rate applicant Arte Mundi reported that during the POR, it changed its English name from Scholar Home to Arte Mundi.¹⁷ Based on our analysis of the information on the record regarding any changes with respect to corporate structure, manufacturing facilities, customers and suppliers, we preliminarily determine that Arte Mundi is the the successor-in-interest to Scholar Home and, as a result, should be accorded the same treatment previously accorded to Scholar Home. See the Preliminary Decision Memorandum for further information.

¹⁷ See Arte Mundi's Letter, “Separate Rate Application for Scholar Home/Arte Mundi in the Administrative Review of the Antidumping Duty Order on Multilayered Wood Flooring from the People's Republic of China (A-570-970) (POR: 12/1/18-11/30/19),” dated March 30, 2020. Scholar Home was granted a separate rate in the previous administrative review of this Order. See Multilayered Wood Flooring from the People's Republic of China: Preliminary Results of the Antidumping Duty Administrative Review and New Shipper Review, Preliminary Determination of No Shipments, and Rescission of Review, in Part; 2017-2018, 85 FR 6911 (February 6, 2020), and accompanying Preliminary Decision Memorandum at 14, unchanged in Multilayered Wood Flooring from the People's Republic of China: Final Results of Antidumping Duty Administrative Review and New Shipper Review and Final Determination of No Shipments; 2017-2018, 85 FR 78118 (December 3, 2020), and accompanying Issues and Decision Memorandum.

Methodology

We are conducting this administrative review in accordance with sections 751(a)(1)(B) of the Act and 19 CFR 351.213. We calculated export prices for Senmao in accordance with section 772(a) of the Act. Because China is an NME within the meaning of section 771(18) of the Act, we calculated NV in accordance with section 773(c) of the Act.

Preliminary Results of Review

We preliminarily determine that the following weighted-average dumping margins exist for the POR December 1, 2018, through November 30, 2019:

Exporters | Weighted- average dumping margin (percent)
Jiangsu Senmao Bamboo and Wood Industry Co., Ltd | 00.00
Non-Selected Companies Under Review Receiving a Separate Rate ¹⁸ | 00.00

Disclosure and Public Comment

¹⁸ See Appendix II.

We intend to disclose to interested parties the calculations performed for these preliminary results within five days of the date of publication of this notice in accordance with 19 CFR 351.224(b). Interested parties may submit case briefs no later than 30 days after the date of publication of these preliminary results of review.¹⁹ Rebuttals to case briefs may be filed no later than seven days after the case briefs are filed, and all rebuttal comments must be limited to comments raised in the case briefs.²⁰

¹⁹ See 19 CFR 351.309(c).

²⁰ See 19 CFR 351.309(d).

Pursuant to 19 CFR 351.309(c)(2) and (d)(2), parties who submit case briefs or rebuttal briefs in this review are encouraged to submit with each argument: (1) A statement of the issue; (2) a brief summary of the argument; and (3) a table of authorities. Note that Commerce has temporarily modified certain of its requirements for serving documents containing business proprietary information, until further notice.²¹ Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

²¹ See Temporary Rule Modifying AD/CVD Service Requirements Due to COVID-19; Extension of Effective Period, 85 FR 41363 (July 10, 2020).

Unless otherwise extended, we intend to issue the final results of this administrative review, which will include the results of our analysis of the issues raised in the case briefs, within 120 days of publication of these preliminary results in the Federal Register, pursuant to section 751(a)(3)(A) of the Act and 19 CFR 351.213(h).

Assessment Rates

Upon issuance of the final results, Commerce will determine, and CBP shall assess, antidumping duties on all appropriate entries covered by this review, in accordance with 19 CFR 351.212(b). Commerce intends to issue assessment instructions to CBP 35 days after the publication of the final results of this review.

For any individually examined respondent whose (estimated) ad valorem weighted-average dumping margin is not zero or de minimis (i.e., less than 0.50 percent) in the final results of this review, Commerce will calculate importer-specific assessment rates on the basis of the ratio of the total amount of dumping calculated for the importer's examined sales and the total quantity of those sales, in accordance with 19 CFR 351.212(b)(1).²² Commerce will also calculate (estimated) ad valorem importer-specific assessment rates with which to assess whether the per-unit assessment rate is de minimis. We will instruct CBP to assess antidumping duties on all appropriate entries covered by this review when the importer-specific ad valorem assessment rate calculated in the final results of this review is not zero or de minimis.

²² In these preliminary results, Commerce applied the assessment rate calculation method adopted in Antidumping Proceedings: Calculation of the Weighted-Average Dumping Margin and Assessment Rate in Certain Antidumping Proceedings: Final Modification, 77 FR 8101 (February 14, 2012).

For the respondents that were not selected for individual examination in this administrative review that qualified for a separate rate, the assessment rate will be the separate rate established in the final results of this administrative review.

If, in the final results, Senmao's weighted-average dumping margin continues to be zero or de minimis (i.e., less than 0.5 percent), Commerce will instruct CBP to liquidate the appropriate entries without regard to antidumping duties.²³ For entries that were not reported in the U.S. sales databases submitted by Senmao during this review, and for the 36 companies that do not qualify for a separate rate (including Jinlong), Commerce will instruct CBP to liquidate such entries at the China-wide rate (i.e., 85.13 percent).²⁴ In addition, if we continue to find no shipments of subject merchandise for the 20 companies for which we preliminarily find no such shipments during the POR,²⁵ any suspended entries of subject merchandise associated with those companies will be liquidated at the China-wide rate.²⁶

²³ See 19 CFR 351.106(c)(2).

²⁴ See Multilayered Wood Flooring from the People's Republic of China: Final Results of Antidumping Duty Administrative Review and Final Determination of No Shipments; 2016-2017, 84 FR 38002 (August 5, 2019).

²⁵ See Appendix II for a list of these companies.

²⁶ See Non-Market Economy Antidumping Proceedings: Assessment of Antidumping Duties, 76 FR 65694, 65695 (October 24, 2011).

For the companies for which the administrative review is rescinded, antidumping duties shall be assessed at rates equal to the cash deposit of estimated antidumping duties required at the time of entry, or withdrawal from warehouse, for consumption, in accordance with 19 CFR 351.212(c)(1)(i). We intend to issue appropriate assessment instructions with respect to the companies for which this administrative review is rescinded to CBP 35 days after the publication of this notice.

Cash Deposit Requirements

The following cash deposit requirements will be effective upon publication of the final results of this review for all shipments of the subject merchandise from China entered, or withdrawn from warehouse, for consumption on or after the publication date, as provided for by section 751(a)(2)(C) of the Act: (1) For the companies listed above that have a separate rate, the cash deposit rate will be that rate established in the final results of this review (except, if the rate is de minimis, then a cash deposit rate of zero will be required); (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 85.13 percent); and (4) for all non-Chinese exporters of subject merchandise that have not received their own rate, the cash deposit rate will be the rate applicable to Chinese exporter that supplied that non-Chinese exporter. These cash deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties.

We are issuing and publishing the preliminary results of this review in accordance with sections 751(a)(l) and 777(i)(l) of the Act and 19 CFR 351.221(b)(4).

Dated: April 19, 2021.
Christian Marsh,
Acting Assistant Secretary for Enforcement and Compliance.

Appendix I—List of Topics Discussed in the Preliminary Decision Memorandum

I. Summary

II. Background

III. Period of Review

IV. Scope of the Order

V. Selection of Respondents

VI. Preliminary Determination of No Shipments

VII. Preliminary Sucessor-in-Interest Determination

VIII. Discussion of the Methodology

IX. Recommendation

Appendix II

No Shipments

Anhui Longhua Bamboo Product Co., Ltd.

Baroque Timber Industries (Zhongshan) Co., Ltd.

Benxi Flooring Factory (General Partnership)

Dalian Jaenmaken Wood Industry Co., Ltd.

Dalian Shengyu Science And Technology Development Co., Ltd.

Dalian T-Boom Wood Products Co., Ltd.

Dunhua City Dexin Wood Industry Co., Ltd.

Dunhua City Jisen Wood Industry Co., Ltd.

Fine Furniture (Fine Furniture (Shanghai) Limited and Double F Limited)

Innomaster Home (Zhongshan) Co., Ltd.

Jiangsu Yuhui International Trade Co., Ltd.

Linyi Anying Wood Co., Ltd.

Power Dekor Group Co., Ltd.

Shandong Longteng Wood Co., Ltd.

Yekalon Industry Inc.

Yingyi-Nature (Kunshan) Wood Industry Co., Ltd.

Zhejiang Biyork Wood Co., Ltd.

Zhejiang Shiyou Timber Co., Ltd.

Zhejiang Shuimojiangnan New Material Technology Co., Ltd.

Zhejiang Simite Wooden Co., Ltd.

China-Wide Entity

Anhui Boya Bamboo & Wood Products Co., Ltd.

Anhui Yaolong Bamboo & Wood Products Co. Ltd.

Armstrong Wood Products (Kunshan) Co., Ltd.²⁷

²⁷ These results apply only to entries where Armstrong Wood Products (Kunshan) Co., Ltd. was the exporter but not the producer of subject merchandise.

Armstrong World Industries Inc.

Changzhou Hawd Flooring Co., Ltd.

Chinafloors Timber (China) Co., Ltd.

Dalian Dajen Wood Co., Ltd.

Dalian Guhua Wooden Product Co., Ltd.

Dalian Huade Wood Product Co., Ltd.

Dalian Huilong Wooden Products Co., Ltd.

Dalian Qianqiu Wooden Product Co., Ltd., Fusong Jinlong Wooden Group Co., Ltd., Fusong Jinqiu Wooden Product Co., Ltd., and Fusong Qianqiu Wooden Product Co., Ltd. (collectively, Jinlong)

Guangzhou Homebon Timber Manufacturing Co., Ltd.

Guangzhou Panyu Kangda Board Co., Ltd.

Guangzhou Panyu Southern Star Co., Ltd.

Hangzhou Hanje Tec Company Limited

Hangzhou Zhengtian Industrial Co., Ltd.

Hunchun Forest Wolf Wooden Industry Co., Ltd.

Jiafeng Wood (Suzhou) Co., Ltd.

Jilin Xinyuan Wooden Industry Co., Ltd.

Karly Wood Product Limited.

Kember Flooring, Inc. (a.k.a. Kember Hardwood Flooring, Inc.)

Kemian Wood Industry (Kunshan) Co., Ltd.

Linyi Bonn Flooring Manufacturing Co., Ltd.

Mudanjiang Bosen Wood Industry Co., Ltd.

Nakahiro Jyou Sei Furniture (Dalian) Co., Ltd.

Omni Arbor Solution Co., Ltd.²⁸

²⁸ In the Initiation Notice, we inadvertently initiated a review with respect to Omni Arbor Solutions Co., Ltd.

Power Dekor North America Inc.

Shanghai Lairunde Wood Co., Ltd.

Shanghaifloor Timber (Shanghai) Co., Ltd.

Shenyang Haobainian Wooden Co., Ltd.

Shenzhenshi Huanwei Woods Co., Ltd.

Xiamen Yung De Ornament Co., Ltd.

Xuzhou Antop International Trade Co., Ltd.

Xuzhou Shenghe Wood Co., Ltd.

Zhejiang Fudeli Timber Industry Co., Ltd

Zhejiang Jiechen Wood Industry Co., Ltd.

Rescissions

Dalian Deerfu Wooden Product Co., Ltd.

Dunhua City Wanrong Wood Industry Co., Ltd.

Jilin Forest Industry Jinqiao Flooring Group Co., Ltd.

Lauzon Distinctive Hardwood Flooring, Inc.

Non-Selected Companies Under Review Receiving a Separate Rate

A&W (Shanghai) Woods Co., Ltd.

Arte Mundi (Shanghai) Aesthetic Home Furnishings Co., Ltd. (successor-in-interest to Scholar Home (Shanghai) New Material Co., Ltd.)

Benxi Wood Company

Dalian Jiahong Wood Industry Co., Ltd.

Dalian Kemian Wood Industry Co., Ltd.

Dalian Penghong Floor Products Co., Ltd./Dalian Shumaike Floor Manufacturing Co., Ltd.

Dongtai Fuan Universal Dynamics, LLC

Dun Hua Sen Tai Wood Co., Ltd.

Dunhua City Hongyuan Wood Industry Co., Ltd.

Dunhua Shengda Wood Industry Co., Ltd

Hailin Linjing Wooden Products Co., Ltd.

Hunchun Xingjia Wooden Flooring Inc.

Huzhou Chenghang Wood Co., Ltd

Huzhou Fulinmen Imp. & Exp. Co., Ltd.

Huzhou Jesonwood Co., Ltd.

Huzhou Sunergy World Trade Co., Ltd.

Jiangsu Guyu International Trading Co., Ltd

Jiangsu Keri Wood Co., Ltd.

Jiangsu Mingle Flooring Co., Ltd

Jiangsu Simba Flooring Co., Ltd.

Jiashan HuiJiaLe Decoration Material Co., Ltd.

Jiashan On-Line Lumber Co., Ltd.

Jiaxing Hengtong Wood Co., Ltd.

Kingman Floors Co., Ltd.

Linyi Youyou Wood Co., Ltd.

Metropolitan Hardwood Floors, Inc.

Pinge Timber Manufacturing (Zhejiang) Co., Ltd.

Sino-Maple (Jiangsu) Co., Ltd.

Suzhou Dongda Wood Co., Ltd.

Tongxiang Jisheng Import and Export Co., Ltd.

Yihua Lifestyle Technology Co., Ltd. (successor-in-interest to Guangdong Yihua Timber Industry Co., Ltd.)

Zhejiang Dadongwu Greenhome Wood Co., Ltd.

Zhejiang Fuerjia Wooden Co., Ltd

Zhejiang Longsen Lumbering Co., Ltd.

[FR Doc. 2021-08630 Filed 4-23-21; 8:45 am]

BILLING CODE 3510-DS-P